DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on July 15, 2011, and comments were due by September 13, 2011. No comments were received.

DATES: Comments must be submitted on or before November 30, 2011.

FOR FURTHER INFORMATION CONTACT: Elizabeth Gearhart, Maritime Administration, 1200 New Jersey Avenue SE., Washington, DC 20590. Telephone: (202) 366-1867; or email: beth.gearhart@dot.gov. Copies of this collection also can be obtained from that office.

SUPPLEMENTARY INFORMATION: Maritime Administration (MARAD).

Title: Shipbuilding Orderbook and Shipyard Employment.

OMB Control Number: 2133-0029.

Type of Request: Extension of currently approved collection.

Affected Public: Owners of U.S. shipyards who agree to complete the requested information.

Forms: MA-832.

Abstract: MARAD collects this information from the shipbuilding and ship repair industry primarily to determine if an adequate mobilization base exists for national defense and for use in a national emergency.

Annual Estimated Burden Hours: 400.

ADDRESSES: Send comments regarding these information collections to the Office of Information and Regulatory Affairs, Office of Management and Budget, 725 Seventeenth Street NW., Washington, DC 20503, Attention: MARAD Desk Officer. Alternatively, comments may be sent via email to the Office of Information and Regulatory Affairs (OIRA), Office of Management and Budget, at the following address: oira.submissions@omb.eop.gov.

Comments Are Invited On: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology.

A comment to OMB is best assured of having its full effect if OMB receives it within 30 days of publication.

By the Order of the Maritime Administrator.
Dated: October 25, 2011.
Julie P. Agarwal,
Secretary, Maritime Administration.

[FR Doc. 2011-28028 Filed 10-28-11; 8:45 am]

BILLING CODE 4910-81-P